DEPARTMENT OF COMMERCE

National Oceanic and Atmospheric Administration

RIN 0648-XC709

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting.

DATES: The meeting will be held Monday, June 17, 2013 through Friday, June 21, 2013.

ADDRESSES: The meeting will be held at the Crowne Plaza Pensacola—The Grand hotel, 200 East Gregory Street, Pensacola, FL 32502; telephone: (850) 433-3336.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630.

SUPPLEMENTARY INFORMATION:

Committees

Monday, June 17, 2013

1:30 p.m.-2 p.m.—The Red Drum Management Committee will meet to review updated Gulf of Mexico Red Drum Sampling Protocols.

2 p.m.-4 p.m.—The Mackerel Management Committee will meet to review the SEDAR 28 Gulf of Mexico Spanish mackerel and cobia stock assessments and the Coastal Migratory Pelagics Advisory Panel recommendations for Amendment 19 and Amendment 20; and, discuss the schedule and timing for Amendment 22—Recreational and Commercial Allocation of King Mackerel.

4 p.m.-4:30 p.m.—The Administrative Policy Committee will discuss revisions to the SEDAR Administrative Handbook.

4:30 p.m.-5 p.m.—The Full Council in a Closed Session with the Advisory Panel Selection Committee will meet to appoint members to the Coral and SEDAR NGO Advisory Panels.

5 p.m.-5:30 p.m.—The Full Council in a Closed Session with the Scientific and Statistical Selection Committee will meet to appoint members to the SEDAR Workshop Pool; and Special Coral and Special Mackerel Scientific and Statistical Committees.

—Recess—

Tuesday, June 18, 2013

8:30 a.m.-12 noon and 1:30 p.m.-5 p.m.—The Reef Fish Management Committee will review the status of SEDAR 31 Red Snapper Benchmark Assessment and the SSC Recommendations for ABC; receive an Allocation Overview presentation; review Amendment 28—Red Snapper Allocation Scoping Document and Amendment 39—Recreational Red Snapper Regional Management; discuss Amendment 36—Red Snapper IFQ 5-Year Review and the For-Hire Days-at-Sea Pilot Program; receive summaries from the Goliath Grouper Science and Stakeholder Workshops; discuss White Paper on Live Animal Collection for Public Displays; receive a status on the Action to Define For-Hire Fishing Under Contractual Services; and, discuss Exempted Fishing Permits related to Reef Fish (if any).

—Recess—

Immediately following the Committee Recess will be the Informal Question & Answer Session on Gulf of Mexico Fishery Management Issues.

Wednesday, June 19, 2013

8:30 a.m.-11:30 a.m.—The Reef Fish Management Committee will continue to discuss agenda items from the previous day.

—Recess—

1 p.m.-2 p.m.—The Data Collection Committee will take Final Action on the Framework Action for Headboat Electronic Reporting Requirements and review a scoping document for Improving Private Recreational Red Snapper Fisheries Data.

2 p.m.-2:30 p.m.—The Joint Artificial Reef/Habitat Protection Committees will receive a summary and review an Options Paper on Fixed Petroleum Platforms and Artificial Reefs as Essential Fish Habitat.

2:30 p.m.-3:30 p.m.—The Shrimp Management Committee will receive a summary from the May 2013 Shrimp Advisory Panel meeting; and discuss the Framework Action to Establish Funding Responsibilities for the Electronic Logbook Program for the Shrimp Fishery of the Gulf of Mexico.

3:30 p.m.-4:30 p.m.—The Sustainable Fisheries/Ecosystem Management Committee will meet to draft the Framework Action—Update Tier 3 ACLS with New MRIP Landings and discuss Sustainable Seafood Certification.

4:30 p.m.-5:30 p.m.—The Ad Hoc Restoration Committee will receive an update on Gulf State Early Restoration Projects; and review the National Fish and Wildlife Foundation Restoration Project Proposals.

—Recess—

Council

Thursday, June 20, 2013

9 a.m.—The Council meeting will begin with a Call to Order and Introductions.

9:05 a.m.-9:15 a.m.—The Council will review the agenda and approve the minutes.

9:15 a.m.-11:30 a.m.—The Council will receive committee reports from Advisory Panel Selection, Scientific and Statistical Committee Selection; Administrative Policy, Joint Artificial Reef/Habitat Protection, Red Drum and Mackerel.

1 p.m.-5 p.m.—The Council will receive public testimony on Framework Actions to Require Electronic Reporting for Headboats; Framework Action to Establish Funding Responsibilities for the Electronic Logbook Program for Shrimp Fishery of the Gulf of Mexico; and on Reef Fish Amendment 39—Regional Management of Recreational Red Snapper. The Council will also hold an open public comment period regarding any other fishery issues or concerns. People wishing to speak before the Council should complete a public comment card prior to the comment period.

5 p.m.-5:15 p.m.—The Council will review and vote on Exempted Fishing Permits (EFP), if any.

—Recess—

Friday, June 21, 2013

8:30 a.m.-12:15 p.m.—The Council will continue to receive committee reports from Data Collection, Sustainable Fisheries/Ecosystem, Shrimp and Reef Fish.

12:15 p.m.-12:45 p.m.—The Council will review Other Business items: summary from each of the following conferences; Managing Our Nation's Fisheries 3, South Atlantic Fishery Management Council's June 2013 meeting, Southeast Fisheries Science Center (SEFSC) Data Program Review, Marine Resource Education Program (MREP) Science Workshop and the May 2013 Council Coordination Committee (CCC) meeting.

12:45 p.m.-1 p.m.—The Council will review the Action Schedule.

— Adjourn—

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council Office (see ADDRESSES) at least 5 working days prior to the meeting.

Dated: May 28, 2013.
Tracey L. Thompson,
Acting Deputy Director, Office of Sustainable Fisheries, National Marine Fisheries Service.

[FR Doc. 2013-12963 Filed 5-31-13; 8:45 am]

BILLING CODE 3510-22-P